DEPARTMENT OF COMMERCE

National Institute of Standards and Technology

NIST Cloud Computing Forum & Workshop

AGENCY: National Institute of Standards and Technology, Department of Commerce.

ACTION: Notice.

SUMMARY: The National Institute of Standards and Technology (NIST) 8th NIST Cloud Computing Forum and Workshop will be held in Gaithersburg, Maryland on Tuesday, July 7, Wednesday, July 8, Thursday, July 9, and Friday July 10, 2015. The format is a four-day forum that emphasizes the participation and progress made by standard development organizations, researchers and the community of cloud computing experts. The Forum and Workshop will bring together leaders and innovators from industry, academia and government in an interactive format that combines keynote presentations, panel discussions, and breakout sessions. The forum and workshop are open to the general public. NIST invites presentations from interested speakers at this event as described in the SUPPLEMENTARY INFORMATION section below.

In addition, NIST invites organizations to participate as exhibitors as described in the SUPPLEMENTARY INFORMATION section below.

DATES: The 8th Forum and Workshop will be held 9:00 a.m.-5:00 p.m. Eastern Time (ET) on Tuesday, July 7, 9:00 a.m.-5:00 p.m. ET on Wednesday, July 8, 9:00 a.m.-5:00 p.m. ET on Thursday, July 9, and 9:00 a.m.-5:00 p.m. ET on Friday, July 10, 2015.

ADDRESSES: The event will be held at the National Institute of Standards and Technology, 100 Bureau Drive, Gaithersburg, MD 20899 in the Red Auditorium of the Administration Building (Building 101). Please note admittance instructions in the SUPPLEMENTARY INFORMATION section below.

FOR FURTHER INFORMATION CONTACT: Robert Bohn by email at robert.bohn@nist.gov or by phone at (301) 975-4731.

SUPPLEMENTARY INFORMATION: NIST hosted seven prior Cloud Computing Forum and Workshop events in May 2010, November 2010, April 2011, November 2011, June 2012, January 2013 and March 2014. This year's meeting will focus on the progress the cloud community has made on the 10 requirements provided in the USG Cloud Computing Technology Roadmap (NIST Special Publication 500-293). The NIST Cloud Computing Program (NCCP) published the final version of the Roadmap in October 2014.

Each of the 10 requirements described in the Roadmap comes with a set of Priority Action Plans (PAPs) that are self-tasking for the cloud computing community. Therefore, the NCCP is sponsoring a call for papers that address the Requirements and PAPs found in the Roadmap and welcomes relevant submissions for a talk approximately 15-20 minutes long. Authors of accepted abstracts will be invited to present their work. Additional information may be found at: http://www.nist.gov/itl/cloud/ccfwviii.cfm.

There will be a single-day parallel meeting on Thursday, July 9 on Cloud Forensics, which will focus on the issues enumerated in the NIST Cloud Computing Forensic Science Challenges (NIST IR 8006, draft). There will also be sessions dedicated to deployments of cloud computing in the government sector (Federal, State, Local) and on Cloud Computing Standards.

The series of workshops was originally organized in response to the request of the U.S. Chief Information Officer that NIST lead federal efforts on standards for data portability, cloud interoperability, and security.¹ The workshops' goals are to engage with industry, academia, and standards development organizations to accelerate the development of cloud standards for interoperability, portability, and security; discuss the Federal Government's experience with cloud computing; report on the status of the NIST Cloud Computing efforts; report progress on the NIST-led initiative to collaboratively develop a U.S. Government (USG) Cloud Computing Technology Roadmap among multiple federal and industrial stakeholders; and to advance the dialogue among all of these stakeholders.

¹ Office of Management and Budget, U.S. Chief Information Officer, Federal Cloud Computing Strategy, Feb. 8, 2011. Online: https://cio.gov/wp-content/uploads/downloads/2012/09/Federal-Cloud-Computing-Strategy.pdf.

NIST invites members of the public and other community stakeholders to participate in this event as a presenter or an exhibitor. To participate as a presenter, one will need to submit a completed “Abstract Submission” form to ForumSubmit@nist.gov. Instructions for completing and submitting an abstract are available at: http://www.nist.gov/itl/cloud/abssubinst.cfm.

On Tuesday, July 7, Wednesday, July 8, Thursday July 9, and Friday July 10, 2015, space will be available for 25 academic, industry, and standards development organizations to exhibit their respective Cloud Computing work at an exhibit table. The first 25 organizations requesting an exhibit table related to Cloud Computing will be accepted. Interested organizations should contact Tara Brown, email: tara.brown@nist.gov or (301) 975-4178. Requests for an exhibit table will be granted on a first-come, first-serve basis. Responses must be submitted by an authorized representative of the organization. Logistics information will be provided to accepted exhibitors. NIST will provide the exhibit location space and one work-table, free of charge. Exhibitors are responsible for the cost of the exhibit, including staffing and materials. NIST reserves the right to exercise its judgment in the placement of exhibits. General building security is supplied; however, exhibitors are responsible for transporting and securing exhibit equipment and materials. NIST is not liable with regard to damage or loss of equipment used in the exhibit booth/table.

The official event Web site is with hotel information is: http://nist.gov/itl/cloud/cloud_computing_wkshp_viii.cfm. The workshop is open to the general public; however, those wishing to attend must register through https://www-s.nist.gov/CRS/conf_disclosure.cfm?conf_id=8354 by 5:00 p.m. ET on Tuesday, June 23, 2015. All visitors to the NIST site are required to pre-register to be admitted and must have appropriate government-issued photo ID to gain entry to NIST.

Richard Cavanagh,
Acting Associate Director for Laboratory Programs.

[FR Doc. 2015-14316 Filed 6-11-15; 8:45 am]

BILLING CODE 3510-13-P